DEPARTMENT OF HEALTH AND HUMAN SERVICES

Health Resources and Services Administration

Ryan White HIV/AIDS Program Part F; AIDS Education and Training Centers; Enhancement and Update of the National HIV Curriculum e-Learning Platform

AGENCY: Health Resources and Services Administration (HRSA), Department of Health and Human Services.

ACTION: Notice of supplemental award.

SUMMARY: HRSA's HIV/AIDS Bureau will award $100,000 in supplemental funding to the University of Washington. This award is to support the Ryan White HIV/AIDS Program Part F AIDS Education and Training Centers (AETC) Enhancement and Update of the National HIV Curriculum e-Learning Platform project in Fiscal Year (FY) 2020 and in each succeeding year of their periods of performance, pending the availability of funds. This supplemental funding will enable the University of Washington to make critical content enhancements to the National HIV Curriculum e-Learning Platform that respond to the specific training and technical assistance needs of HIV treatment professionals located in the jurisdictions targeted by the Ending the HIV Epidemic: A Plan for America (EHE) initiative. Further, it will ensure that more health professionals in EHE jurisdictions have access to the most up-to-date HIV treatment interventions and protocols, thus increasing their competency to provide high-quality care for people with HIV and in so doing, advance the goals of the EHE.

FOR FURTHER INFORMATION CONTACT: Sherrillyn Crooks, Chief, HIV Education Branch, Office of Training and Capacity Development, HRSA, 5600 Fishers Lane, Room 9N110, Rockville, MD 20857, by email at scrooks@hrsa.gov or by phone at (301) 443-7662.

SUPPLEMENTARY INFORMATION: Intended Recipient of the Award: The University of Washington, AETC Enhancement and Update of the National HIV Curriculum e-Learning Platform project.

Amount of Award: $100,000 available in FY 2020.

Project Period: March 1, 2020-August 31, 2022.

CFDA Number: 93.145.

Authority: 42 U.S.C. 300ff-111(a) (section 2692(a) of the Public Health Service (PHS) Act), 42 U.S.C. 300ff-121 (section 2693 of the PHS Act), and Further Consolidated Appropriations Act, 2020 (Pub. L. 116-94).

Justification: The University of Washington currently manages the AETC's web-based National HIV Curriculum-e-Learning Platform. The National HIV Curriculum e-Learning Platform provides virtual state of the art training and resources to HIV treatment and care professionals. The recipient will use this supplement award to enhance the quality and relevance of the of training and technical assistance resources offered through the National HIV Curriculum e-Learning Platform and expand its focus to include the specific educational needs of HIV care and treatment providers in EHE designated areas. The supplemental funds will enable the University of Washington to deploy more robust outreach efforts that target EHE jurisdictions to ensure that they are aware of and can use this valuable web-based resource. Engaging new and experienced HIV providers and health professions training institutions in EHE regions will allow the University of Washington to better discern and directly respond to any training needs or gaps these providers and institutions may identify. Expanding the availability of state-of-the-art HIV care and treatment training resources will help prepare for the projected increase in demand for well-trained HIV care professionals as a result of the EHE rollout. This award recipient has the demonstrated expertise and scalable experience required to address these time-sensitive technical and training assistance.

Thomas J. Engels,
Administrator.

[FR Doc. 2020-07214 Filed 4-6-20; 8:45 am]

BILLING CODE 4165-15-P